CONSUMER PRODUCT SAFETY COMMISSION

Sunshine Act Meeting Notice

TIME AND DATE: Wednesday, June 24, 2015, 10 a.m.-3 p.m.

PLACE: Hearing Room 420, Bethesda Towers, 4330 East West Highway, Bethesda, Maryland.

STATUS: Commission meeting—open to the public.

MATTERS TO BE CONSIDERED:

Hearing: 1. Agenda and Priorities for Fiscal Years 2016 and 2017 (10 a.m.-12 p.m.); and

2. Data Sources and Consumer Product-Related Incident Information (1 p.m.-3 p.m.).

A live webcast of the Meeting can be viewed at www.cpsc.gov/live.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: June 12, 2015.
Todd A. Stevenson,
Secretariat.

[FR Doc. 2015-14958 Filed 6-15-15; 11:15 am]

BILLING CODE 6355-01-P